DEPARTMENT OF STATE

[Public Notice 4050]

Request for Proposals

The Office of Crime Programs, Bureau for International Narcotics and Law Enforcement Affairs (INL/C) is seeking proposals from qualified U.S. Organizations and Institutions with the requisite capability and experience to develop a methodology for assessing the effectiveness of anticorruption policies and actions being taken by national governments. The methodology should include a process to identify deficiencies in such policies and actions for the purpose of providing constructive input and targeting technical assistance to address deficiencies. Organizations will also be asked to test this methodology on four sample countries. Current plans are to award up to a total of $200,000 to be available to develop this International Anticorruption Assessment Process (IAAP). Applications are due 7/12/02 at 4 p.m. EST. Interested applicants may obtain detailed application instructions from the following website: www.statebuy.gov; click on grant opportunities.

For questions, please contact Linda Gower, Grants Officer, at (202) 776-8774 or gowerlg@state.gov.

Dated: June 6, 2002.
Steve Peterson,
Director, Office of Crime Programs, Bureau for International Narcotics and Law Enforcement Affairs, Department of State.

[FR Doc. 02-14990 Filed 6-12-02; 8:45 am]

BILLING CODE 4710-17-P